FEDERAL MEDIATION AND CONCILIATION SERVICE

Notification of Intention To Strike or Picket at Any Health Care Institution

AGENCY: Federal Mediation and Conciliation Service (FMCS).

ACTION: 60-Day notice and request for comments.

SUMMARY: The Federal Mediation and Conciliation Service (FMCS), invites the public and other Federal Agencies to take this opportunity to comment on the following information collection request, Notification of intention to strike or picket at any health care institution Form. This information collection request will be submitted for approval to the Office of Management and Budget (OMB) in compliance with the Paperwork Reduction Act (PRA). The Notification of intention to strike or picket at any health care institution Form was developed pursuant to the National Labor Relations Act and The Health Care Amendments Act of 1974 which labor organizations must notify FMCS before engaging in any strike, picketing, or other concerted refusal to work at any health care institution.

DATES: Comments must be submitted on or before September 8, 2025.

ADDRESSES: You may submit comments, identified by the Notification of intention to strike or picket at any health care institution Form, through one of the following methods:

• Email: register@fmcs.gov;

• Mail: Office of General Counsel, One Independence Square, 250 E St. SW, Washington, DC 20427.

FOR FURTHER INFORMATION CONTACT: Beth Schindler, National Representative, (206) 553-5801, bschindler@fmcs.gov.

SUPPLEMENTARY INFORMATION: Copies of the agency form are available here.

I. Request for Comments

FMCS solicits comments to:

i. Evaluate whether the proposed collections of information are necessary for the proper performance of the functions of the agency, including whether the information will have practical utility.

ii. Enhance the accuracy of the agency's estimates of the burden of the proposed collection of information.

iii. Enhance the quality, utility, and clarity of the information to be collected.

iv. Minimize the burden of the collections of information on those who are to respond, including the use of appropriate automated, electronic collection technologies or other forms of information technology.

II. Information Collection Request

Agency: Federal Mediation and Conciliation Service.

OMB Number: OMB No. Not yet assigned.

Title: Notification of intention to strike or picket at any health care institution Form.

Type of Request: New Collection.

Affected Public: Private Sector, not-for profit institutions; and state and local government.

Frequency: On occasion.

Burden: The total annual burden estimate is that FMCS will receive approximately 200 responses per year. This form takes about 5 minutes to complete.

Information Collection Requirement

Purpose and Description of Data Collection: Pursuant to Section 8(g) of the National Labor Relations Act and The Health Care Amendments Act of 1974 (29 U.S.C. 158(d)(4), (4)(A-(4)(C), labor organizations must notify FMCS before engaging in any strike, picketing, or other concerted refusal to work at any health care institution. This will be satisfied by requiring the completion and submission of the Notification of intention to strike or picket at any health care institution Form.

Use of Results: Once FMCS receives the form, it contacts the parties and offers its services, including mediation, if appropriate, prior to the commencement of a work stoppage of any kind.

III. The Official Record

The official records are electronic records.

Dated: July 3, 2025.
Alisa Zimmerman,
Deputy General Counsel.

[FR Doc. 2025-12684 Filed 7-7-25; 8:45 am]

BILLING CODE 6732-01-P